LEGAL SERVICES CORPORATION

Notice of Intent To Award—Grant Awards for the Provision of Civil Legal Services to Eligible Low-Income Clients in February 2016

AGENCY: Legal Services Corporation.

ACTION: Announcement of intention to make FY 2016 Grant Awards for Service Area MI-13 in southeastern Michigan.

SUMMARY: The Legal Services Corporation (LSC) hereby announces its intention to award grants to provide economical and effective delivery of high quality civil legal services to eligible low-income clients in southeastern Michigan in February 2016.

DATES: All comments and recommendations must be received on or before the close of business on December 14, 2015.

ADDRESSES: Legal Services Corporation—Grants Awards, Legal Services Corporation; 3333 K Street NW., Third Floor; Washington, DC 20007.

FOR FURTHER INFORMATION CONTACT: Reginald Haley, Office of Program Performance, at (202) 295-1545, or haleyr@lsc.gov.

SUPPLEMENTARY INFORMATION: Pursuant to LSC's announcement of funding availability on September 22, 2015, 80 FR 57235, LSC intends to award funds to provide civil legal services in southeastern Michigan. The service area is comprised of Macomb, Oakland, and Wayne Counties. The applicants for the service area are listed below. The amounts below reflect the funding amounts for 2015 grant awards to each service area. These amounts will change based on the 2016 census adjustment and the final FY2016 appropriation. LSC will post all updates and/or changes to this notice at http://www.grants.lsc.gov/grants-grantee-resources. Interested parties are asked to visit http://www.grants.lsc.gov/grants-grantee-resources regularly for updates on the LSC grants process.

Name of applicant organization | State | Service area | Estimated annualized 2016 funding
Lakeshore Legal Aid | MI | MI-13 | $ 4,368,810
Legal Aid and Defender Association | MI | MI-13 | 4,368,810

The grant will be awarded under the authority conferred on LSC by section 1006(a)(1) of the Legal Services Corporation Act, 42 U.S.C. 2996e(a)(l). The award will be made so that the service area is served, although no listed organization is guaranteed an award. The grant will become effective and grant funds will be distributed in February 2016.

This notice is issued pursuant to 42 U.S.C. 2996f(f). Comments and recommendations concerning potential grantees are invited, and should be delivered to LSC within thirty (30) days from the date of publication of this notice.

Dated: November 9, 2015.
Stefanie K. Davis,
Assistant General Counsel.

[FR Doc. 2015-28812 Filed 11-12-15; 8:45 am]

BILLING CODE 7050-01-P